NATIONAL TRANSPORTATION SAFETY BOARD

Sunshine Act Meeting; Agenda

Time and Date: 9:30 a.m., Tuesday, December 8, 2009.

Place: NTSB Conference Center, 429 L'Enfant Plaza SW., Washington, DC 20594.

Status: The one item is open to the public.

Matter to be Considered: 8023A Highway Accident Report—Motorcoach Rollover on U.S. Highway 59, Near Victoria, Texas, January 2, 2008 (HWY-08-MH-011)

News Media Contact: Telephone: (202) 314-6100.

The press and public may enter the NTSB Conference Center one hour prior to the meeting for set up and seating.

Individuals requesting specific accommodations should contact Rochelle Hall at (202) 314-6305 by Friday, December 4, 2009.

The public may view the meeting via a live or archived webcast by accessing a link under “News & Events” on the NTSB home page at http://www.ntsb.gov.

FOR FURTHER INFORMATION CONTACT: Candi Bing, (202) 314-6403.

Dated: Friday, November 20, 2009.
Candi R. Bing,
Federal Register Liaison Officer.

[FR Doc. E9-28260 Filed 11-20-09; 4:15 pm]

BILLING CODE 7533-01-P